DEPARTMENT OF HEALTH AND HUMAN SERVICES

Administration for Children and Families

Proposed Information Collection Activity; Comprehensive Child Welfare Information System (CCWIS) Automated Function Checklist and Data Quality Plan (Office of Management and Budget #0970-0463)

AGENCY: Children's Bureau, Administration for Children and Families, U.S. Department of Health and Human Services.

ACTION: Request for public comments.

SUMMARY: The Administration for Children and Families (ACF) is requesting a three-year extension of the Comprehensive Child Welfare Information System (CCWIS) information collection (Office of Management and Budget (OMB) #0970-0463, expiration 6/30/2025). The CCWIS information collection includes the Automated Function List and the Data Quality Plan. There are no required instruments associated with the data collection and no changes to the data collection.

DATES: Comments due May 23, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The CCWIS information collection includes two components:

• The Automated Function List update required pursuant to § 1355.52(i)(2);

• The Data Quality Plan update required pursuant to § 1355.52(d)(5).

The CCWIS regulations require updates of this information to confirm that the project meets CCWIS requirements and that project costs are appropriately allocated to benefiting programs.

Respondents: Title IV-E agencies under the Social Security Act.

Annual Burden Estimates
Instrument | Total number of respondents | Annual number of responses per respondent | Average burden hours per response | Annual burden hours
Automated Function List § 1355.52(i)(2) | 55 | 1 | 10 | 550
Data Quality Plan § 1355.52(d)(5) | 55 | 1 | 40 | 2,200
Estimated Total Annual Burden Hours |  |  |  | 2,750

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 621 et seq., 42 U.S.C. 670 et seq., 42 U.S.C. 1301 and 1302.

Mary C. Jones,
ACF/OPRE Certifying Officer.

[FR Doc. 2025-04900 Filed 3-21-25; 8:45 am]

BILLING CODE 4184-25-P